NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 29, 2006. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale at the above address or (703) 292-7405.

SUPPLEMENTARY INFORMATION: The National Science Foundation, as directed by the Antarctic Conservation Act of 1978 (Public Law 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Permit Application No. 2007-001, Olav T. Oftedal, Department of Conservation Biology, Smithsonian Institution, National Zoological Park, 3001 Connecticut Ave., NW., Washington, DC 20008.

Activity for Which Permit is Requested

Take, and import into the U.S.A. The applicant plans to capture and collect samples from up to 120 Weddell seal mother-pup pairs and up to 180 lactating mother-juvenile pairs. The samples will help determine the importance of food intake to lactating Weddell seals and their young during the lactation period. They will measure: (a) Energy expenditure of lactating females, (b) the amount and composition of milk consumed by nursing pups, (c) growth of pups, and (d) onset and prevalence of feeding in mothers and pups, and (e) amount of energy that lactating females derive from food intake.

Location

McMurdo Sound vicinity.

Dates

September 1, 2006 to February 1, 2009.

2. Applicant: Permit Application No. 2007-004, Gretchen E. Hofmann, Department of Ecology, Evolution and Marine Biology, University of California, Santa Barbara, Santa Barbara, CA 93106-9610.

Activity for Which Permit Is Requested

Introduce non-indigenous species into Antarctica. The applicant proposes to bring up to 10 black cod (Notothenia angustata) for use in experiments in Crary Lab at McMurdo Station. The fish from temperate waters will be exposed to the subzero conditions of Antarctic coastal waters. The responses of the New Zealand fish will be assessed using genomics techniques, and these results will be compared to the Antarctic species. The New Zealand fish are thought to have initially evolved in the Antarctic and then migrated to more temperate water. These experiments will more carefully test this supposition. The New Zealand fish will not be released into Antarctic waters.

Location

The Crary Science and Engineering Center, McMurdo Station, Antarctica.

Dates

October 1, 2006 to December 31, 2006.

3. Applicant: Permit Application No. 2007-006, Paul J. Ponganis, Center for Marine Biotechnology/Biomedicine, Scripps Institution of Oceanography, University of California, San Diego, La Jolla, CA 92093-0204.

Activity for Which Permit Is Requested

Take and Enter Antarctic Specially Protected Area. The applicant proposes to capture up to 80 adult Emperors, up to 20 Emperor chicks, and 10 adult Adelie penguins. Blood and muscle tissue samples will be collected and depth recorders will be attached. The samples collected will help to understand how Emperors dive so long and avoid complications such as shallow water black out and accumulation of metabolic byproducts such as lactate. In addition, the applicant will conduct censuses of the Emperor colonies at Cape Crozier (ASPA #124), Beaufort Island (ASPA #105), Cape Washington, Franklin Island and Coulman Island. The applicant also proposes to salvage up to 10 Emperor carcasses each year for anatomical studies.

Location

McMurdo Sound sea ice, Cape Washington, Franklin Island, Coulman Island, Cape Crozier (ASPA #124), and Beaufort Island (ASPA #105).

Dates

September 1, 2006 to January 31, 2009.

4. Applicant: Permit Application No. 2007-007, Markus Horning, Hatfield Marine Science Center, 2030 SE Marine Science Drive, Newport, OR 97365.

Activity for Which Permit Is Requested

Take and Import into the United States. The applicant proposes to capture up to 48 Weddell seals to be weighed, blood and muscle tissue samples taken and VHF transmitters attached. The samples collected will be returned to the U.S. for analysis to determine the small-scale, immediate and obvious effects of aging on the diving capacity and exercise capability of adult Weddell seals.

Location

McMurdo Sound sea ice.

Dates

October 1, 2006 to January 31, 2008.

5. Applicant: Permit Application No. 2007-008, Walker O. Smith, Virginia Institute of Marine Science, P.O. Box 1346, 1208 Greate Road, Gloucester Point, VA 23062.

Activity for Which Permit Is Requested

Introduce non-indigenous species into Antarctica. The application proposed to bring 2 flasks each of phytoplankton (Phaeocystis Antarctica, Pseudo-nitzschia sp. and Fragilariopsis cylindus) for use in experiments during a cruise on the R/V Nathaniel B. Palmer. These cultures are originally from Antarctica and have not been genetically modified. The applicant will study the physiological response of these native species to controlled environmental factors with onboard incubation. It is necessary to use these samples because the occurrence of these species in unpredictable in the Ross Sea and there is limited time on the cruise to perform the experiments.

Location

Ross Sea.

Dates

October 20, 2006 to December 25, 2006.

6. Applicant: Permit Application No. 207-011, Mark Buckley, Senior Manager Multimedia, Raytheon Polar Service Company, 7400 S. Tucson Way, Centennial, CO 80112.

Activity for Which Permit Is Requested

Enter Antarctic Specially Protected Areas. The RPSC Multimedia team is often tasked with taking video and still footage of scientific activities and general scenery. Request for such coverage is expected to increase during the International Polar Year. The applicant requests to enter the Antarctic Specially Protected Areas in the McMurdo Sound/Ross Sea region when tasked to film scientific activities occurring at any of the sites. Access to the sites will be limited to due to operational and scientific constraints.

Location

Sabrina Island (ASPA 104), Beaufort Island (ASPA 105), Cape Hallett (ASPA 106). Cape Bird (ASPA 116), Mt. Melbourne (ASPA 118), Cape Royds (ASPA 121), Arrival Heights (ASPA 122), Barwick Valley (ASPA 123), Cape Crozier (ASPA 124), Tramway Ridge (ASPA 130), Canada Glacier (ASPA 131), Northwest White Island (ASPA 137), Linneaus Terrace (ASPA 138), Botany Bay (ASPA 154), Cape Evans (ASPA 155), Lewis Bay (ASPA 156), Backdoor Bay (ASPA 157), Hut Point (ASPA 158), Cape Adare (ASPA 150), Terra Nova Bay (ASPA 161).

Dates

October 1, 2006 to February 14, 2009.

Nadene G. Kennedy,
Permit Officer, Office of Polar Programs.

[FR Doc. 06-7256 Filed 8-29-06; 8:45 am]

BILLING CODE 7555-01-M